DEPARTMENT OF COMMERCE

National Oceanic and Atmospheric Administration

Draft NOAA Deep-Sea Coral and Sponge Research and Management Strategic Plan

AGENCY: Coral Reef Conservation Program, NOAA, Department of Commerce.

ACTION: Notice of Availability; request for comments.

SUMMARY: The National Oceanic and Atmospheric Administration (NOAA) publishes this notice to announce the availability of the Draft NOAA Deep-Sea Coral and Sponge Research and Management Strategic Plan for public comment. The Draft NOAA Deep-Sea Coral and Sponge Research and Management Strategic Plan identifies objectives, priorities and approaches that will guide NOAA's research, management, and international activities from Fiscal Year 2009 through 2013 as they relate to deep coral and sponge ecosystems.

DATES: Comments on this draft must be received no later than 5 p.m., Eastern Standard Time, January 15, 2009.

ADDRESSES: The Draft NOAA Deep-Sea Coral and Sponge Research and Management Strategic Plan will be available at the following location: http://www.coralreef.noaa.gov/Library/Publications/deepcstratplan.pdf.

The public is encouraged to submit comments on the Draft NOAA Deep-Sea Coral and Sponge Research and Management Strategic Plan electronically to: deepseacoral.strategicplan.gov. For commenters who do not have access to a computer, comments on the document may be submitted in writing to: NOAA National Marine Fisheries Service, c/o Karen Palmigiano, NOAA's Deep-Sea Coral Program, 1315 East-West Highway, Room 15828, Silver Spring, Maryland 20910.

FOR FURTHER INFORMATION CONTACT: Karen Palmigiano by mail at NOAA National Marine Fisheries Service, c/o Karen Palmigiano, NOAA's Deep-Sea Coral Program, 1315 East-West Highway, Room 15828, Silver Spring, Maryland 20910 or phone at 301-713-3459 or e-mail at karen.palmigiano@noaa.gov.

SUPPLEMENTARY INFORMATION: The National Oceanic and Atmospheric Administration (NOAA) announces that the Draft NOAA Deep-Sea Coral and Sponge Research and Management Strategic Plan is available for public review and comment. All interested parties are encouraged to provide comments. The Draft NOAA Deep-Sea Coral and Sponge Management and Strategic Plan is being issued for comment only and is not intended for interim use. Suggested changes will be considered for incorporation into the final version, where appropriate.

The Draft NOAA Deep-Sea Coral and Sponge Research and Management Strategic Plan identifies objectives, priorities, and approaches that will guide NOAA's research, management, and international activities from Fiscal Year 2009 through Fiscal Year 2013 as they relate to deep coral and sponge ecosystems. It is intended to integrate research and conservation needs and to be a flexible, evolving document that allows NOAA and its partners to address our growing understanding of management challenges and allow new issues and priorities to be addressed as appropriate. NOAA is soliciting review and comment from the public and all interested parties on the Draft Deep-Sea Coral and Sponge Research and Management Strategic Plan.

The Draft NOAA Deep-Sea Coral and Sponge Research and Management Strategic Plan is presented in three sections: (I) Exploration and Research; (II) Conservation and Management; and (III) International Cooperation.

Section I identifies the role of research in management, including NOAA's priorities and objectives for research and exploration of deep-sea coral and sponge ecosystems and anticipated deliverables for each objective. Section II provides objectives and approaches that NOAA will undertake to enhance protection of deep-sea coral and sponge communities working with the Councils, other Federal agencies and interested partners. NOAA's strategy for managing deep-sea coral and sponge ecosystems is centered on the authority provided to NOAA through the Magnuson-Stevens Fisheries Conservation and Management Act as amended January 12, 2007, and the National Marine Sanctuary Act. Section III describes NOAA's participation in international activities to protect and/or conserve deep-sea coral and sponge ecosystems.

NOAA welcomes all comments on the content of the Draft NOAA Deep-Sea Coral and Sponge Research and Management Strategic Plan. We also request commenters to acknowledge areas where more language may be needed and to provide specific language for those areas.

Using the format guidance described below will facilitate the processing of reviewer comments and assure that all comments are appropriately considered; however, all comments received will be considered. Please format your comments into the following three sections: (1) Background information about yourself (optional); (2) overview or general comments; and (3) specific comments. Section one may include the following background information about yourself on the first page of your comments: Your name(s), organization(s), area(s) of expertise, and contact information such as mailing address, telephone and fax numbers, and e-mail address(s). Section two should consist of overview comments, and each should be numbered. Section three should consist of comments that are specific to particular pages, paragraphs, or lines in the document, and each comment should identify the page and line numbers to which it applies. Please number and print identifying information at the top of all pages.

Public comments may be submitted from October 17, 2008, through January 15, 2009.

Dated: October 2, 2008.
David Kennedy,
Director, Ocean and Coastal Resource Management.

[FR Doc. E8-24469 Filed 10-16-08; 8:45 am]

BILLING CODE 3510-22-M